DEPARTMENT OF THE TREASURY

Submission for OMB Review; Comment Request

May 12, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 26, 2000 to be assured of consideration.

Internal Revenue Service (IRS)

OMB Number: 1545-0025.

Form Number: IRS Form 712.

Type of Review: Revision.

Title: Life Insurance Statement.

Description: Form 712 is used to establish the value of life insurance policies for estate and gift tax purposes. The tax is based on the value of these policies. The form is completed by life insurance companies.

Respondents: Business or other for-profit.

Estimated Number of Respondents/Recordkeepers: 60,000.

Estimated Burden Hours Per Respondent/Recordkeeper:

Recordkeeping | 18 hr., 11 min.
Learning about the law or the form | 6 min.
Preparing and sending the form to the IRS | 23 min.

Frequency of Response: On occasion.

Estimated Total Reporting/Recordkeeping Burden: 1,120,800 hours.

OMB Number: 1545-0257.

Form Number: IRS Forms 8109, 8109-B, and 8109-C.

Type of Review: Extension.

Title: Federal Tax Deposits (8109 and 8109-B); and FTD Address Change (8109-C).

Description: Federal Tax Deposit Coupons are used to deposit certain types of taxes at authorized depositaries. Coupons are sent to the IRS Centers for crediting to taxpayers' accounts. Data is used by the IRS to make the credit and to verify tax deposits claimed on the returns. The FTD Address change is used to change the address on the FTD coupons. All taxpayers required to make deposits are affected.

Respondents: Business or other for-profit, Not-for-profit institutions, Farms, Federal Government, State, Local or Tribal Government.

Estimated Number of Respondents: 9,300,700.

Estimated Burden Hours Per Respondent: 2 minutes.

Frequency of Response: On occasion, Weekly, Monthly, Other (semi-weekly, monthly).

Estimated Total Reporting Burden: 1,841,607 hours.

OMB Number: 1545-1091.

Form Number: IRS Form 8810.

Type of Review: Extension.

Title: Corporate Passive Activity Loss or Credit Limitations.

Description: Under section 469, losses and credits from passive activities, to the extent they exceed passive income (or, in the case of credits, the tax attributable to net passive income), are not allowed. Form 8810 is used by personal service corporations and closely held corporations to figure the passive activity loss and credits allowed and the amount of loss and credit to be reported on their tax return.

Respondents: Business or other for-profit.

Estimated Number of Respondents/Recordkeepers: 100,000.

Estimated Burden Hours Per Respondent/Recordkeeper:

Recordkeeping | 26 hr., 19 min.
Learning about the law or the form | 5 hr., 7 min.
Preparing and sending the form to the IRS | 5 hr., 43 min.

Frequency of Response: Annually.

Estimated Total Reporting/Recordkeeping Burden: 3,708,000 hours.

OMB Number: 1545-1683.

Form Number: IRS Form 56-A (formerly Forms 12575 and 12575-A).

Type of Review: Revision.

Title: Notice Concerning Fiduciary Relationship—Illinois Type Land Trust.

Description: The data collected on the form provides trustees of Illinois Land Trusts a convenient method of reporting information related to creating, changing, and closing such trusts.

Respondents: Business or other for-profit.

Estimated Number of Respondents/Recordkeepers: 10,000.

Estimated Burden Hours Per Respondent/Recordkeeper:

Recordkeeping | 40 min.
Learning about the law or the form | 10 min.
Preparing the form | 21 min.
Copying, assembling, and sending the form to the IRS | 20 min.

Frequency of Response: On occasion.

Estimated Total Reporting/Recordkeeping Burden: 15,100 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 00-13118 Filed 5-24-00; 8:45 am]

BILLING CODE 4830-01-P